DEPARTMENT OF ENERGY

Federal Energy Regulatory Commission

[Project No. 190-106]

Moon Lake Electric Association, Inc.; Notice Reopening Comment Period

On December 31, 2024, Moon Lake Electric Association, Inc. filed an application to surrender and decommission the Uintah Hydroelectric Project No. 190. The project is located on the Uinta River, Pole Creek, and Big Springs, near the town of Neola, Duchesne County, Utah. The project occupies lands of the Uintah and Ouray Indian Reservation of the Ute Indian Tribe and the U.S. Forest Service's Ashley National Forest.

On October 20, 2025, Commission staff issued notice of the availability of an Environmental Assessment (EA) containing Commission staff's analysis of the environmental effects of the proposed surrender. The October 20, 2025 notice established November 19, 2025, as the deadline for filing comments, motions to intervene, and protests.

On November 10, 2025, the Department of Interior (Interior) filed a timely request to extend the comment period for the EA for 30 days or until December 10, 2025. The reason cited for the request for extension was the federal lapse of appropriations from October 1 through November 12, 2025, and that federal employees were on furlough and were unable to review and develop comments on the EA.

We have reviewed Interior's request and are reopening the comment period for the EA. All comments on the EA must be filed by 5:00 p.m. Eastern Time on December 19, 2025.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-190-106.

For public inquiries and assistance with making filings such as interventions, comments, or requests for rehearing, contact the Office of Public Participation at (202) 502-6595 or OPP@ferc.gov.

For further information, contact Diana Shannon at 202-502-6136 or diana.shannon@ferc.gov.

(Authority: 18 CFR 2.1)

Dated: December 1, 2025.
Carlos D. Clay,
Deputy Secretary.

[FR Doc. 2025-21950 Filed 12-3-25; 8:45 am]

BILLING CODE 6717-01-P